DEPARTMENT OF THE TREASURY

Internal Revenue Service

26 CFR Part 1

[REG-123854-12]

RIN 1545-BL25

Application of Section 409A to Nonqualified Deferred Compensation Plans; Correction

AGENCY: Internal Revenue Service (IRS), Treasury.

ACTION: Correction to a partial withdrawal of notice of proposed rulemaking; notice of proposed rulemaking.

SUMMARY: This document contains corrections to a partial withdrawal of notice of proposed rulemaking; notice of proposed rulemaking (REG-123854-12) that was published in the Federal Register on Wednesday, June 22, 2016 (81 FR 40569). The proposed regulations are to clarify or modify certain specific provisions of the final regulations under section 409A (TD 9321, 72 FR 19234).

DATES: Written or electronic comments and requests for a public hearing for the notice of proposed rulemaking published at 81 FR 40569, June 22, 2016 are still being accepted and must be received by September 20, 2016.

FOR FURTHER INFORMATION CONTACT: Concerning the proposed regulations under sections 409A, Gregory Burns at (202) 927-9639, concerning submissions or comments and/or requests for a public hearing, Regina Johnson 202-317-6901 (not toll-free numbers).

SUPPLEMENTARY INFORMATION:

Background

The partial withdrawal of notice of proposed rulemaking; notice of proposed rulemaking (REG-123854-12) that is the subject of this correction is under 409A of the Internal Revenue Code.

Need for Correction

As published, the partial withdrawal of notice of proposed rulemaking; notice of proposed rulemaking (REG-123854-12) contains errors that may prove to be misleading and are in need of clarification.

Correction of Publication

Accordingly, the partial withdrawal of notice of proposed rulemaking; notice of proposed rulemaking (REG-123854-12) that was the subject of FR Doc. 2016-14331 is corrected as follows:

§ 1.409A-3 [Corrected]

1. On page 40582, first column, seventeenth line of paragraph (i)(5)(iv), the language “described in § 1.409A-(1)(b)(ii) held” is corrected to read “described in § 1.409A-1(b)(5)(ii) held”.

2. On page 40582, second column, in paragraph (i)(5)(iv) twenty-first line from the top of the page, the language “§ 1.409A-(1)(b)(5)(i)(A) or (B) or a statutory stock” is corrected to read “§ 1.409A-1(b)(5)(i)(A) or (B) or a statutory stock”.

3. On page 40582, second column, in paragraph (i)(5)(iv) twenty-third line from the top of the page, the language “§ 1.409A-(1)(b)(5)(ii) also will not cause the stock” is corrected to read “§ 1.409A-1(b)(5)(ii) also will not cause the stock”.

§ 1.409A-4 [Corrected]

4. On page 40584, first column, in the third and fourth line of paragraph (a)(1)(ii)(B), the language “substantial risk of forfeiture—(1) Risk of forfeiture disregarded.” is corrected to read “substantial risk of forfeiture.”.

5. On page 40584, first and second column of paragraphs “(a)(1)(ii)(B)(i), (ii), and (iii)” are renumbered as “(a)(1)(ii)(B)(1), (2), and (3)” respectively.

Martin V. Franks,
Chief, Publications and Regulations Branch, Legal Processing Division, Associate Chief Counsel, (Procedure and Administration).

[FR Doc. 2016-18355 Filed 8-3-16; 8:45 am]

BILLING CODE 4830-01-P